FEDERAL COMMUNICATIONS COMMISSION

47 CFR Part 73

[DA 02-490]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and the Amendment of the Commission's Rules to permit FM Channel and Class Modifications [Upgrades] by Applications, 8 FCC Rcd 4735 (1993).

DATES: Effective March 19, 2002.

FOR FURTHER INFORMATION CONTACT: Kathleen Scheuerle, Mass Media Bureau, (202) 418-2180.

SUPPLEMENTARY INFORMATION: This is a summary of the Commission's Report and Order, adopted February 20, 2002, and released March 1, 2002. The full text of this Commission decision is available for inspection and copying during regular business hours at the FCC Reference Information Center, Portals II, 445 12th Street, SW, Room CY-A257, Washington, DC, 20554. This document may also be purchased from the Commission's duplicating contractor, Qualex International, Portals II, 445 12th Street, SW, Room CY-B402, Washington, DC. 20554, telephone 202-863-2893, facsimile 202-863-2898, or via e-mail qualexint@aol.com.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Arizona, is amended by removing Channel 266C3 and adding Channel 266C0 at Lake Havasu City.

3. Section 73.202(b), the Table of FM Allotments under Louisiana, is amended by removing Channel 235C2 and adding Channel 235C3 at Coushatta.

4. Section 73.202(b), the Table of FM Allotments under Missouri, is amended by removing Channel 299A and adding Channel 299C3 at Stockton.

5. Section 73.202(b), the Table of FM Allotments under Nevada, is amended by removing Channel 224C3 and adding Channel 224C2 at Ely and by removing Channel 284A and adding Channel 284C1 at Moapa Valley.

6. Section 73.202(b), the Table of FM Allotments under Oklahoma, is amended by removing Channel 284A and adding Channel 284C3 at Ponca City.

7. Section 73.202(b), the Table of FM Allotments under Tennessee, is amended by removing Channel 229A and adding Channel 229C3 at Atwood.

8. Section 73.202(b), the Table of FM Allotments under Vermont, is amended by removing Channel 269A and adding Channel 269C3 at Stowe.

9. Section 73.202(b), the Table of FM Allotments under Washington, is amended by removing Channel 240C3 and adding Channel 240C2 at Quincy.

Federal Communications Commission.
John A. Karousos,
Chief, Allocations Branch, Policy and Rules Division, Mass Media Bureau.

[FR Doc. 02-6375 Filed 3-18-02; 8:45 am]

BILLING CODE 6712-01-P